NATIONAL AERONAUTICS AND SPACE ADMINISTRATION

[Notice (05-086)]

NASA Advisory Committees; Renewal of NASA's Advisory Committee Charters

AGENCY: National Aeronautics and Space Administration (NASA).

ACTION: Notice of renewal and amendment of the charters of NASA's advisory committees.

SUMMARY: Pursuant to sections 14(b)(1)and 9(c) of the Federal Advisory Committee Act (Pub. L. 92-463), and after consultation with the Committee Management Secretariat, General Services Administration, the Administrator of the National Aeronautics and Space Administration has determined that a renewal of four Agency-established advisory committees is in the public interest in connection with the performance of duties imposed upon NASA by law. The structure and duties of these committees are unchanged. The four advisory committees are: NASA Advisory Council, Aerospace Medicine and Occupational Health Advisory Committee, Minority Business Resources Advisory Committee, and Planetary Protection Advisory Committee.

FOR FURTHER INFORMATION CONTACT: Ms. P. Diane Rausch, Office of External Relations, National Aeronautics and Space Administration, Washington, DC 20546, 202/358-4510.

SUPPLEMENTARY INFORMATION: Information regarding the NASA Advisory Council and its committees is available on the World Wide Web at: http://www.hq.nasa.gov/office/codez/new/poladvisor.html.

P. Diane Rausch,
Advisory Committee Management Officer, National Aeronautics and Space Administration.

[FR Doc. 05-9240 Filed 5-9-05; 8:45 am]

BILLING CODE 7510-13-P